NATIONAL AERONAUTICS AND SPACE ADMINISTRATION

[Notice 07-043]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: May 29, 2007.

FOR FURTHER INFORMATION CONTACT: Bryan A. Geurts, Patent Counsel, Goddard Space Flight Center, Mail Code 140.1, Greenbelt, MD 20771-0001; telephone (301) 286-7351; fax (301) 286-9502.

NASA Case No. GSC-15002-3: Method And Associated Apparatus For Capturing, Servicing, And De-Orbiting Earth Satellites Using Robotics;

NASA Case No. GSC-15002-2: Method And Associated Apparatus For Capturing, Servicing, And De-Orbiting Earth Satellites Using Robotics;

NASA Case No. GSC-15002-4: Method And Associated Apparatus For Capturing, Servicing, And De-Orbiting Earth Satellites Using Robotics;

NASA Case No. GSC-15002-5: Method And Associated Apparatus For Capturing, Servicing, And De-Orbiting Earth Satellites Using Robotics;

NASA Case No. GSC-14952-1: Conformal Gripping Device.

Dated: May 21, 2007.
Keith T. Sefton,
Deputy General Counsel, Administration and Management.

[FR Doc. E7-10168 Filed 5-25-07; 8:45 am]

BILLING CODE 7510-13-P